DEPARTMENT OF DEFENSE

Department of the Navy

[Docket ID: USN-2019-HQ-0012]

Proposed Collection; Comment Request

AGENCY: Office of the Secretary of the Navy, DoD.

ACTION: Information collection notice.

SUMMARY: In compliance with the Paperwork Reduction Act of 1995, the Marine Corps Manpower and Reserve Affairs (M&RA), Business and Support Services Division (MR) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 19, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Al Gorski, Supervisory Financial Analyst, Financial Operations System Support (FOSS), Business and Support Services Division (MR), Headquarters, U.S. Marine Corps, 3044 Catlin Ave, Quantico, VA 22134-5009 or 703-784-3857.

SUPPLEMENTARY INFORMATION: Title; Associated Form; and OMB Number: Response to the Marine Corps NAF Debt Collection Notice NAVMC 11787, OMB Control Number 0703-XXXX.

Needs and Uses: The information collection requirement is necessary to maintain a tracking and accounting system for the purpose of repayment management or to transfer the debt collection to the Treasury Offset Program, dependent on the response option elected by the respondent.

Affected Public: Individuals or households; and business or other for profit.

Annual Burden Hours: 173.

Number of Respondents: 2,080.

Responses per Respondent: 1.

Annual Responses: 2,080.

Average Burden per Response: 5 minutes.

Frequency: On occasion.

Respondents are authorized vendors and patrons indebted to MCCS businesses and services as well as applicable supported Marine Corps Nonappropriated Fund Instrumentalities (NAFIs). The completed form is maintained to manage the repayment option elected by the respondent. If the form was not completed, the outstanding alleged debt would be automatically submitted to the Treasury Offset Program to withhold or reduce federal payment (s) to satisfy the debt. Having a means to manage outstanding debt collection supports financial accountability.

Dated: June 14, 2019.
Aaron T. Siegel,
Alternate OSD Federal Register Liaison Officer, Department of Defense.

[FR Doc. 2019-13078 Filed 6-19-19; 8:45 am]

BILLING CODE 5001-06-P